FEDERAL COMMUNICATIONS COMMISSION

47 CFR Part 64

[CG Docket No. 96-146; DA 03-807]

The Consumer & Governmental Affairs Bureau Seeks Comments To Refresh Record on Rules Governing Interstate Pay-per-Call and Other Information Services

AGENCY: Federal Communications Commission.

ACTION: Proposed rule.

SUMMARY: On July 11, 1996, the Commission released a document which amended the Commission's rules governing interstate pay-per-call and other information services to conform with the requirements of the Telecommunications Act of 1996 (1996 Act). Through amendments to section 228, the 1996 Act addressed abusive practices that threatened public confidence in toll-free numbers and left telephone subscribers vulnerable to unexpected charges for calls and information services. The rule amendments were designed to comply with this statutory mandate. 47 CFR 64.1501 et seq. The Order and Notice of Proposed Rulemaking proposed new rules to correct abuses involving presubscribed information services and the use of 800 numbers and other toll free numbers to charge subscribers for information services. This document seeks comment to refresh the record regarding issues outlined in the Order and Notice of Proposed Rulemaking issued in 1996.

DATES: Comments are due on or before May 12, 2003 and reply comments are due on or before May 27, 2003.

ADDRESSES: Federal Communications Commission, 445 12th Street, SW., Room TW-A325, Washington, DC 20554. See Supplementary Information for filing instructions.

FOR FURTHER INFORMATION CONTACT: Calvin Osborne, Policy Division, Consumer & Governmental Affairs Bureau, (202) 418-2512.

SUPPLEMENTARY INFORMATION: This is a summary of the Commission's Public Notice released March 17, 2003. On July 11, 1996, the Commission released an Order and Notice of Proposed Rulemaking, 61 FR 39107, July 26, 1996, which, among other things, amended the Commission's rules governing interstate pay-per-call and other information services to conform with the requirements of the Telecommunications Act of 1996 (1996 Act). Through amendments to section 228, the 1996 Act addressed abusive practices that threatened public confidence in toll-free numbers and left telephone subscribers vulnerable to unexpected charges for calls and information services. The rule amendments were designed to comply with this statutory mandate. 47 CFR 64.1501 et seq. The Order and Notice of Proposed Rulemaking proposed new rules to correct abuses involving presubscribed information services and the use of 800 numbers and other toll free numbers to charge subscribers for information services. In the Notice of Proposed Rulemaking, the Commission proposed limited modifications to the Commission's rules which contain our presubscription definition, toll-free number limitations, and billing requirements. Order and Notice of Proposed Rulemaking, 11 FCC Rcd at 14752-56, paras. 42-48. We also sought comment on whether additional regulations were necessary to protect consumers from certain practices by common carriers involved in transmitting interstate information services that could be interpreted as not being just and reasonable under section 201(b) of the Communications Act. We now seek comment to refresh the record regarding the issues outlined in the Notice of Proposed Rulemaking. Pursuant to 47 CFR 1.415, 1.419, interested parties may file comments on or before May 12, 2003, and reply to comments on or before May 27, 2003. Comments may be filed using the Commission's Electronic Comment Filing System (ECFS) or by filing paper copies. Comments filed through the ECFS can be sent as an electronic file via the Internet to http://www.fcc.gov/cgb/ecfs/. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form.” A sample form and directions will be sent in reply. Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW, Washington, DC 20554. All filings must be addressed to the Commission's Secretary, Office of the Secretary, Federal Communications Commission. Parties who choose to file comments by paper must file an original and four copies with the Commission's Secretary, Marlene H. Dortch, Office of the Secretary. Comments may also be filed using the Commission's Electronic Filing System, which can be accessed via the Internet at http://www.fcc.gov/e-file/ecfs.html.

Federal Communications Commission.
Margaret M. Egler,
Deputy Chief, Consumer & Governmental Affairs Bureau.

[FR Doc. 03-7319 Filed 3-26-03; 8:45 am]

BILLING CODE 6712-01-P